DEPARTMENT OF DEFENSE

Department of the Army; Corps of Engineers

Intent To Prepare a Supplemental Environmental Impact Statement for the Proposed Rueter-Hess Reservoir Expansion Project, Parker, CO

Correction

In notice document 05-22808 beginning on page 69961 in the issue of Friday, November 18, 2005, make the following corrections:

1. On page 69961, in the third column, under SUMMARY, in the tenth line, after “Corps Permit #199980472.” add this sentence, “The Final EIS was published in July 2003, and the Record of Decision was signed in February 2004.”

2. On the same page, in the same column, under ADDRESSES, in the seventh line, the e-mail address is corrected to read, Rodney.J.Schwartz@usace.army.mil.

FR Doc. C5-22808 Filed 11-25-05; 8:45 am]

BILLING CODE 1505-01-D